SECURITIES AND EXCHANGE COMMISSION

Bancorp International Group, Inc. File No. 500-1; Order of Suspension of Trading

August 31, 2005.

It appears to the Securities and Exchange Commission that all of the securities currently trading in the name of Bancorp International Group, Inc. (“BCIT”) and purportedly signed by Thomas Megas as President and M. Puig as Secretary are counterfeit. BCIT is quoted on the Pink Sheets LLC.

The Commission is of the opinion that the public interest and the protection of investors require a suspension of trading in the securities of BCIT.

Therefore, it is ordered, pursuant to section 12(k) of the Securities Exchange Act of 1934, that trading in BCIT is suspended for the period from 9:30 a.m. e.d.t., August 31, 2005 through 11:59 p.m. e.d.t., on September 14, 2005.

By the Commission.
Jonathan G. Katz,
Secretary.

[FR Doc. 05-17593 Filed 8-31-05; 11:53 am]

BILLING CODE 8010-01-P